DEPARTMENT OF HEALTH AND HUMAN SERVICES

Centers for Disease Control and Prevention

Disease, Disability, and Injury Prevention and Control Special Emphasis Panel (SEP): Applied Research on Antimicrobial Resistance, PA #01066.

In accordance with section 10(a)(2) of the Federal Advisory Committee Act (Pub. L. 92-463), the Centers for Disease Control and Prevention (CDC) announces the following meeting:

Name: Disease, Disability, and Injury Prevention and Control Special Emphasis Panel (SEP): Applied Research on Antimicrobial Resistance, PA #01066.

Times and Dates: 8:30 a.m.-9 a.m., August 16, 2001. (Open) 9 a.m.-5:30 p.m., August 16, 2001. (Closed)

Place: Hilton Atlanta Airport, 1031 Virginia Avenue, Atlanta, Georgia 30354.

Status: Portions of the meeting will be closed to the public in accordance with provisions set forth in section 552b(c) (4) and (6), Title 5 U.S.C., and the Determination of the Deputy Director for Program Management, CDC, pursuant to Public Law 92-463.

Matters To Be Discussed: The meeting will include the review, discussion, and evaluation of applications received in response to Program Announcement: PA #01066

Contact Person for More Information: Marsha Jones, Health Scientist, Centers for Disease Control and Prevention, National Center for Infectious Diseases, 1600 Clifton Road, m/s C19, Atlanta, GA., 30333. Telephone (404)639-2603, email: maj4@cdc.gov.

The Director, Management Analysis and Services Office has been delegated the authority to sign Federal Register notices pertaining to announcements of meetings and other committee management activities, for both the Centers for Disease Control and Prevention and the Agency for Toxic Substances and Disease Registry.

Dated: July 25, 2001.
Carolyn J. Russell,
Director, Management Analysis and Services Office, Centers for Disease Control and Prevention (CDC).

[FR Doc. 01-18970 Filed 7-30-01; 8:45 am]

BILLING CODE 4163-18-P